DEPARTMENT OF THE INTERIOR

National Park Service

[NPS-WASO-NAGPRA-NPS0038953; PPWOCRADN0-PCU00RP14.R50000]

Notice of Intended Repatriation: South Dakota State Archaeological Research Center, Rapid City, SD, and South Dakota State Historical Society Pierre, SD

AGENCY: National Park Service, Interior.

ACTION: Notice.

SUMMARY: In accordance with the Native American Graves Protection and Repatriation Act (NAGPRA), the South Dakota State Historical Society's divisions of the Archaeological Research Center (ARC) and the State's Museum (SDSHSM) intend to repatriate a certain cultural item that meets the definition of an unassociated funerary object and that has a cultural affiliation with the Indian Tribes or Native Hawaiian organizations in this notice.

DATES: Repatriation of the cultural item in this notice may occur on or after November 29, 2024.

ADDRESSES: Dustin Lloyd, South Dakota State Historical Society Archaeological Research Center, 937 East North Street, Suite 201, Rapid City, SD 57701, telephone (605) 391-2928, email dustin.lloyd@state.sd.us.

SUPPLEMENTARY INFORMATION: This notice is published as part of the National Park Service's administrative responsibilities under NAGPRA. The determinations in this notice are the sole responsibility of the South Dakota State Historical Society (SDSHS), and additional information on the determinations in this notice, including the results of consultation, can be found in the summary or related records. The National Park Service is not responsible for the determinations in this notice.

Abstract of Information Available

A total of one cultural item has been requested for repatriation. The one unassociated funerary object is a political peace medal, a Jefferson Peace Medal.

Based on the information available from both the SDSHS donor records, collector's notes, historical accounts, and oral tradition, this Jefferson Peace medal was removed from its burial context in a Sahnish (Arikara) village in 1935 by a teenager. The political medal in question is reasonably believed to have been presented to the Arikara chief Lightning Crow in 1804 by Lewis and Clark. Upon their return to the village in 1806, the medal had been transferred to another Arikara chief, Grey Eyes. Chief Grey Eyes was known to have the medal in his possession at or around the time of this death.

The medal was retained by the family of the teenage boy until its donation to the SDSHS on September 17, 2004. Recently, the family provided additional information on the medal's origins, which confirmed its original provenience from a burial context.

Despite establishing a reasonable owner of the unassociated funerary object, no lineal descendant was located. At this time, SDSHS staff have not identified any known lineal descendant(s).

Additionally, the above-described unassociated funerary object was not treated with any type of hazardous chemicals/substances nor treated with any type of preservation agent or chemical while in the care and custody of the SDSHS. It is reasonably believed that the previously mentioned private citizens did not treat the medal with any type of hazardous or preservative chemical, substance, or agent.

Determinations

The SDSHS have determined that:

• The one unassociated funerary object described in this notice is reasonably believed to have been placed intentionally with or near human remains, and is connected, either at the time of death or later as part of the death rite or ceremony of a Native American culture according to the Native American traditional knowledge of a lineal descendant, Indian Tribe, or Native Hawaiian organization. The unassociated funerary object has been identified by a preponderance of the evidence as related to human remains, specific individuals, or families, or removed from a specific burial site or burial area of an individual or individuals with cultural affiliation to an Indian Tribe or Native Hawaiian organization.

• There is a reasonable connection between the cultural item described in this notice and the Three Affiliated Tribes of the Fort Berthold Reservation, North Dakota.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after November 29, 2024. If competing requests for repatriation are received, the SDSHS must determine the most appropriate requestor prior to repatriation. Requests for joint repatriation of the cultural item are considered a single request and not competing requests. The SDSHS ais responsible for sending a copy of this notice to the Indian Tribes and Native Hawaiian organizations identified in this notice and to any other consulting parties.

Authority: Native American Graves Protection and Repatriation Act, 25 U.S.C. 3004 and the implementing regulations, 43 CFR 10.9.

Dated: October 22, 2024.
Melanie O'Brien,
Manager, National NAGPRA Program.

[FR Doc. 2024-25178 Filed 10-29-24; 8:45 am]

BILLING CODE 4312-52-P